DEPARTMENT OF LABOR

Employment and Training Administration

[TA-W-71,494]

Johns Manville; Engineered Products Division, Including On-Site Leased Workers From Volt Workforce Solutions; Spartanburg, SC; Notice of Revised Determination on Reconsideration

By application dated May 2, 2010, a petitioner requested administrative reconsideration of the negative determination applicable to the subject firm. The determination was based on the Department's finding that neither increased imports nor a shift in production to a foreign country contributed importantly to worker separations at the subject firm. The workers are engaged in employment related to the production of polyester non-woven fabric. The negative determination was issued on April 16, 2010. The Department's Notice of negative determination was published in the Federal Register on May 20, 2010 (75 FR 28301).

In the request for reconsideration, the petitioner alleged that increased production at an affiliated facility in China caused the loss of business at the Spartanburg, South Carolina facility.

Based on additional information provided by the subject firm during the reconsideration investigation, the Department determines that the subject firm has shifted to a foreign country the production of articles like or directly competitive with the polyester non-woven fabric produced at the subject facility and that the shift of production to China contributed importantly to worker separations at the Spartanburg, South Carolina facility.

Conclusion

After careful review of the additional facts obtained on reconsideration, I determine that workers of Johns Manville, Engineered Products Division, Spartanburg, South Carolina, who are engaged in employment related to the production of polyester non-woven fabric, meet the worker group certification criteria under Section 222(a) of the Act, 19 U.S.C. 2272(a). In accordance with Section 223 of the Act, 19 U.S.C. 2273, I make the following certification:

All workers of Johns Manville, Engineered Products Division, including on-site leased workers from Volt Workforce Solutions, Spartanburg, South Carolina, who became totally or partially separated from employment on or after June 23, 2008, through two years from the date of this certification, and all workers in the group threatened with total or partial separation from employment on date of certification through two years from the date of certification, are eligible to apply for adjustment assistance under Chapter 2 of Title II of the Trade Act of 1974, as amended.

Signed in Washington, DC, this 9th day of July 2010.
Del Min Amy Chen,
Certifying Officer, Division of Trade Adjustment Assistance.

[FR Doc. 2010-18186 Filed 7-23-10; 8:45 am]

BILLING CODE 4510-FN-P